DEPARTMENT OF HOUSING AND URBAN DEVELOPMENT

[Docket No. FR-6450-D-02]

Order of Succession for the Office of Departmental Equal Employment Opportunity

AGENCY: Office of Departmental Equal Employment Opportunity, Department of Housing and Urban Development (HUD).

ACTION: Notice of order of succession.

SUMMARY: In this notice, the Director of the Office of Departmental Equal Employment Opportunity (ODEEO) designates the order of succession for ODEEO. This order of succession supersedes all prior Orders of Succession for ODEEO.

DATES: Applicable Date: March 21, 2024.

FOR FURTHER INFORMATION CONTACT: Lee Ann Richardson, Deputy Assistant General Counsel for Administrative Law, Office of General Counsel, Department of Housing and Urban Development, 451 7th Street SW, Room 9244, Washington, DC 20410, telephone number (202) 405-5127 (this is not a toll-free number). HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: The Director of ODEEO is issuing this order of succession of officials authorized to perform the duties and functions of the Director of ODEEO when the Director is not available to exercise the powers or perform the duties of the office. This Order of Succession is subject to the provisions of the Federal Vacancies Reform Act of 1998 (5 U.S.C. 3345-3349d). This publication supersedes all prior Orders of Succession for ODEEO.

Section A. Order of Succession

Subject to the provisions of the Federal Vacancies Reform Act of 1998 (5 U.S.C. 3345 et seq.,) during any period when, by reason of absence, disability, or vacancy in office, the Director is not available to exercise the powers or perform the duties of the Director of ODEEO, the following officials within ODEEO are hereby designated to exercise the powers and perform the duties of the Director of ODEEO. These officials shall perform the functions and duties of the office in the order specified herein, and no official shall serve unless all the other officials, whose position precedes theirs in this order, are not available to act by reason of absence, disability or vacancy in office. No individual who is serving in an office listed below in an acting capacity may perform the duties of the Director of ODEEO pursuant to this Order of Succession. Accordingly, the Director of ODEEO designates the following Order of Succession:

(1) Deputy Director;

(2) Director, Equal Employment Opportunity Division;

(3) Director, Affirmative Employment Division.

Section B. Authority Superseded

This Order of Succession supersedes all prior Orders of Succession for ODEEO.

Authority: Section 7(d), Department of Housing and Urban Development Act, (42 U.S.C. 3535(d)).

Dated: March 21, 2024.
Wayne Williams,
Director, Office of Departmental Equal Employment Opportunity.

[FR Doc. 2024-06472 Filed 3-26-24; 8:45 am]

BILLING CODE 4210-67-P